DEPARTMENT OF TRANSPORTATION

Federal Aviation Administration

14 CFR Part 73

[Docket No. FAA-2016-4282; Airspace Docket No. 16-AWP-3]

Proposed Establishment of Temporary Restricted Areas R-2509E, R-2509W, and R-2509N; Twentynine Palms, CA; Withdrawal

AGENCY: Federal Aviation Administration (FAA), DOT.

ACTION: Notice of proposed rulemaking (NPRM); withdrawal.

SUMMARY: This action withdraws the NPRM published in the Federal Register of March 30, 2016, proposing to establish temporary restricted areas R-2509E, R-2509W, and R-2509N, Twentynine Palms, CA. The FAA has determined that withdrawal of that NPRM is warranted due to aeronautical impacts associated with the proposed action.

DATES: Effective date: 0901 UTC, July 19, 2016.

FOR FURTHER INFORMATION CONTACT: Colby Abbott, Airspace Policy Group, Office of Airspace Services, Federal Aviation Administration, 800 Independence Avenue SW., Washington DC, 20591; telephone (202) 267-8783.

SUPPLEMENTARY INFORMATION:

History

An NPRM was published in the Federal Register of March 30, 2016 (81 FR 17619), to establish new temporary restricted areas R-2509E, R-2509W, and R-2509N to accommodate a United States Marine Corps (USMC) Large Scale Exercise (LSE) on new Twentynine Palms lands planned for August 1 to August 18, 2016. The proposed new temporary restricted areas would support live fire activities including anti-tank weapons, mortars, and artillery, as well as Unmanned Aircraft Systems, fixed wing, and rotary wing training activities conducting close air support and live ordnance delivery. Efforts to mitigate the aeronautical impacts associated with the proposed action have been unsuccessful and there is no longer sufficient time remaining to complete the actions required to process the airspace proposal in time for the August 1, 2016, exercise start date. Therefore, the NPRM is being withdrawn.

List of Subjects in 14 CFR Part 73

Airspace, Prohibited areas, Restricted areas.

The Withdrawal

In consideration of the foregoing, the NPRM for FR Doc. FAA-2016-4282, Airspace Docket No. 16-AWP-3, as published in the Federal Register of March 30, 2016 (81 FR 17619) (FR Doc. 2016-07166), is hereby withdrawn.

Authority: 49 U.S.C. 106(f), 106(g); 40103, 40113, 40120; E.O. 10854; 24 FR 9565, 3 CFR, 1959-1963 Comp., p. 389.

Issued in Washington, DC, on July 12, 2016.
Leslie M. Swann,
Acting Manager, Airspace Policy Group.

[FR Doc. 2016-16922 Filed 7-18-16; 8:45 am]

BILLING CODE 4910-13-P